DEPARTMENT OF COMMERCE

[Docket No. 140421355-4355-01]

Privacy Act of 1974; New System of Records

AGENCY: Office of the Chief Financial Officer/Assistant Secretary for Administration, BusinessUSA, Office of the Secretary, Department of Commerce.

ACTION: Notice of a New Privacy Act System of Records; COMMERCE/DEPARTMENT-24, BusinessUSA Intellectual Hosting Service Application and Satisfaction Survey Records.

SUMMARY: In accordance with the Privacy Act of 1974, as amended, Title 5 United States Code (U.S.C.) 552(e)(4) and (11); and Office of Management and Budget (OMB) Circular A-130, Appendix I, “Federal Agency Responsibilities for Maintaining Records About Individuals,” the Department of Commerce is issuing this notice of its intent to establish a new system of records entitled COMMERCE/DEPARTMENT-24, BusinessUSA Intellectual Hosting Service Application and Satisfaction Survey Records (BUSA IHSA & SSR). This action is being taken to update the Privacy Act notice and Department of Commerce, Notice to Amend All Privacy Act System of Records. We invite the public to comment on the items noted in this publication.

BusinessUSA (BUSA) is a gateway to business resources for U.S. small businesses and exporters. Its mission is to serve America's businesses by providing easy access to government resources and opportunities, and by efficiently providing consistent, timely, relevant, accurate, complete, and trustworthy information to help them succeed. BUSA strives to provide a seamless and effective customer experience where businesses can discover, locate, access, and use applicable resources. To accomplish BUSA's mission, this system of records will maintain information on customers (defined as individuals and businesses) who request information or assistance through BUSA's multi-channel approach as facilitated by BUSA's Intellectual Hosting Service Application and Satisfaction Survey Records. It will be accessible only to a limited number of approved entities, as explained in greater detail below.

DATES: To be considered, written comments must be submitted on or before June 12, 2014.

Unless comments are received, the new system of records will become effective as proposed on the date of publication of a subsequent notice in the Federal Register.

ADDRESSES: You may submit written comments by any of the following methods:

Email: Efrain.Gonzalez@businessusa.gov. Include “Privacy Act COMMERCE/DEPARTMENT-24, BUSA IHMS & SSR” in the subtext of the message.

Fax: (202) 501-4693, marked to the attention of Mr. Efrain Gonzalez, Jr.

Mail: Mr. Efrain Gonzalez, Jr., BusinessUSA, U.S. Department of Commerce, 1401 Constitution Ave. NW., Room 2830, Washington, DC 20230.

Federal Rulemaking Portal: http://www.regulations.gov.

All comments received will be available for public inspection at the Federal rulemaking portal located at www.regulations.gov.

FOR FURTHER INFORMATION CONTACT: Mr. Efrain Gonzalez, Jr., Chief Financial Officer/Chief Administrative Officer, BusinessUSA, U.S. Department of Commerce 1401 Constitution Ave. NW., Room 2830, Washington, DC 20230, (202) 482-6407.

SUPPLEMENTARY INFORMATION: This notice announces the Department of Commerce's proposal for a new system of records under the Privacy Act of 1974 for BUSA.

The BUSA IHSA SSR is a new system that manages the customer-to-resource interaction. It connects customers with programs, resources, data, points of contact, and other relevant information to help businesses grow. BUSA makes it easier for businesses to find the answers and assistance they need quickly through a multi-channel approach (including contact center, Web site, email and social media) that is facilitated by BUSA's Intellectual Hosting Service Application and Satisfaction Survey Records. BUSA serves as a central point of contact to exchange information among Federal, state, regional and local entities involved in the provision of business enterprise assistance. BUSA aims to provide a single customer experience for America's businesses when entering the Federal gateway by removing the redundancy of multiple contacts and access to difference Federal resource areas, while ensuring customers are properly referred to best suited resources in a timely manner.

BUSA will ensure a safe and secure environment for America's businesses by providing security controls and privacy that will enable integrity, availability and confidentiality. BUSA will sustain a comprehensive framework that provides ubiquitous access to government information and services to help grow American businesses. BUSA will: (a) Capture key business characteristics from U.S. small businesses and exporters; and (b) capture resource summary information and relevant point of contact from resource providers and local business assistance organizations. This information will be used to make informed referrals to appropriate resource providers, business assistance organizations and programs. BUSA will analyze trends and solicit feedback from the businesses about what programs and services they find most valuable and their preferred delivery mechanisms. BUSA will use business community feedback to provide business intelligence solutions for evolving technology to improve business customers' request and experience with the Federal government.

This new system of records will be accessible only to BUSA internal staff, BUSA Federal partner agencies and bureaus, and cloud-based solution provider. Information will be disclosed on a need to know basis. The system of records may be accessible on a limited basis to resource providers and local business assistance organizations. The system of records is designed to record: (1) Customer biographical information (see Categories of Individuals Covered by the System); (2) business resource summary information and relevant points of contact (see Categories of Individuals Covered by the System); (3) referrals to Federal partner programs, resources, data, and other relevant business-focused information; and (4) customer responses to service satisfaction. Information collected in this system of records is basic, non-proprietary business and biographical information. Information collected is used to match customer inquiry and/or request with best resource available. No private or proprietary data will be collected and/or stored by this system.

COMMERCE/DEPARTMENT-24

SYSTEM NAME:

COMMERCE/DEPARTMENT-24, BusinessUSA Intellectual Hosting Service Application and Satisfaction Survey Records

SECURITY CLASSIFICATION:

None

SYSTEM LOCATION:

BusinessUSA, U.S. Department of Commerce, 1401 Constitution Ave. NW., Room 2830, Washington, DC 20230.

CATEGORIES OF INDIVIDUALS COVERED BY THE SYSTEM:

(a) Customer Biographical Information; and, (b) Resource Provider and Local Business Assistance Organization Information.

CATEGORIES OF RECORDS IN THE SYSTEM:

For (a) Customer Biographical Information Category—individual customer name, company name, personal or business email address, personal or business telephone number, personal or business mailing address, data and time of contact, customer service agent name, customer number, industry, contact type, year(s) in business, size of firm, company Web site (URL), ownership, years in exporting, countries exported to, number of employees, annual revenue, service need, customer request, service resolution, contact experience, service satisfaction, service recommendation(s)/referral(s), contact preference, and desire to be contacted to discuss survey results; and for (b) Resource Provider and Local Business Assistance Organization Information Category—submitter name, submitter email address, resource name, resource summary description, name of resource point of contact (POC), POC email, and POC telephone.

AUTHORITY FOR MAINTENANCE OF THE SYSTEM:

15 U.S.C. 1512

PURPOSES:

The purpose of this system is to assemble in one system the necessary information to assist customers in connecting with business assistance services, programs, data and other resources in a larger effort to help the economy by supporting U.S. small businesses and exporters grow and create jobs. Some of these customers would be individuals proposing to start a business. This system serves as a controlled repository for customer data and available business resource summary information. BUSA uses this information to monitor its performance, provide customer information to Federal agency and bureau partners, and Federal partners' sponsored organizations to further serve the customer, and to obtain customer feedback concerning their service experience and the level of satisfaction provided by BUSA and the serving agency.

ROUTINE USES OF RECORDS MAINTAINED IN THE SYSTEM, INCLUDING CATEGORIES OF USERS AND THE PURPOSES OF SUCH USES:

These records may be disclosed as follows:

1. In the event that a system of records maintained by the DOC to carry out its functions indicates a violation or potential violation of law or contract, whether civil, criminal or regulatory in nature, and whether arising by general statute or particular program statute or contract, or rule, regulation, or order issued pursuant thereto, or the necessity to protect an interest of the DOC and Federal partners, the relevant records in the system of records may be referred to the appropriate agency, whether Federal, state, local or foreign, charged with the responsibility of investigating or prosecuting such violation or charged with enforcing or implementing the statute or contract, or rule or order issued pursuant thereto, or protecting the interest of the DOC.

2. A record from this system of records may be disclosed to BUSA Federal agency and bureau partners including: the Department of Commerce (DOC), Small Business Administration (SBA), Department of Defense (DOD), Department of Veteran Affairs (VA), U.S. Environmental Protection Agency (EPA), U.S. Housing and Urban Development (HUD), Department of Health and Human Services (HHS), General Services Administration (GSA), United States Department of Agriculture (USDA), Department of Energy (DOE), Office of Management and Budget (OMB), Department of State, Export/Import Bank, Overseas Private Investment Corporation (OPIC), Department of Transportation (DOT), Department of Treasury, Department of Justice (DOJ), National Science Foundation (NSF), U.S. Trade Development Agency (USTDA), Department of Education, Department of Labor (DOL), Department of Interior (DOI), Department of Homeland Security (DHS), and the National Aeronautical and Space Administration (NASA) in connection with the assignment, based on customer need, and programs for the purpose of linking American businesses to available government business resources.

3. A record from this system of records may be disclosed to Federal partners' sponsored organizations, including Federal grantees and/or certified organizations involved in business development efforts and assistance such as: DOC's National Institute of Standards and Technology (NIST) Hollings Manufacturing Extension Partnership (MEP) Centers, DOC's NIST Manufacturing Technology Acceleration Centers (MTAC), DOC's Economic Development Administration (EDA) University Centers, DOC's Minority Business Development Agency (MBDA) Business Centers, Native American Business Enterprise Centers and Procurement Assistance Centers, DOC's International Trade Administration (ITA) Trade Promotion Coordinating Committee (TPCC), DOD's Procurement Technical Assistance Centers (PTAC), SBA's Small Business Development Centers (SBDC), Small Business and Technology Development Centers (SBTDC), Women Business Centers (WBC), Veteran Business Outreach Centers (VBOC), Service Corps of Retired Executives (SCORE), DOT's Small Business Transportation Resource Centers (SBTRC), and Treasury's Community Development Financial Institutions (CDFI), in connection with the assignment, based on customer need, and programs for the purpose of linking American businesses to available business resources.

4. A record from this system of records may be disclosed to partner state governments, local governments, Non-Profit business development and assistance organizations, in connection with the assignment, based on customer need, and programs for the purpose of linking American businesses to available business resources.

5. A record in this system of records may be disclosed to a Member of Congress submitting a request involving an individual when the individual has requested assistance from the Member with respect to the subject matter of the record.

6. A record in this system of records may be disclosed to the Department of Justice in connection with determining whether disclosure thereof is required by the Freedom of Information Act (5 U.S.C. 552).

7. A record in this system of records may be disclosed to a contractor of the DOC having need for the information in the performance of the contract, but not operating a system of records within the meaning of 5 U.S.C. 552a(m).

8. A record from this system of records may be disclosed to the Administrator, General Services Administration (GSA), or his/her designee, during an inspection of records conducted by GSA as part of that agency's responsibility to recommend improvements in records management practice and programs, under the authority of 44 U.S.C. 2904 and 2906. Such disclosure shall be made in accordance with the GSA regulations governing inspection of records for this purpose, and any other relevant (i.e. GSA or Commerce) directive. Such disclosure shall not be used to make determinations about individuals.

9. A record from this system of records may be disclosed in the course of presenting evidence to a court, magistrate or administrative tribunal, including disclosures to opposing counsel in the course of settlement negotiations.

10. A record in this system of records may be disclosed, as a routine use, to appropriate agencies, entities and persons when (1) it is suspected or determined that the security or confidentiality of information in the system of records has been compromised; (2) the DOC has determined that as a result of the suspected or confirmed compromise there is a risk of harm to economic or property interests, identity theft or fraud, or harm to the security or integrity of this system or whether systems or programs (whether maintained by the DOC or another agency or entity) that rely upon the compromised information; and (3) the disclosure made to such agencies, entities, and persons is reasonably necessary to assist in connection with the DOC's efforts to respond to the suspected or confirmed compromise and to prevent, minimize, or remedy such harm.

DISCLOSURE TO CONSUMER REPORTING AGENCIES:

Not applicable.

POLICIES AND PRACTICES FOR STORING, RETRIEVING, ACCESSING, RETAINING, AND DISPOSING OF RECORDS IN THE SYSTEM:

STORAGE: On electronic digital media in encrypted format within a controlled environment, and accessed only by authorized personnel.

RETRIEVABILITY: By individual's name, business name or other identifier such as email address or telephone number.

SAFEGUARDS: Maintained in areas accessible only to authorized personnel in a building protected by security guards. System is password protected and is FIPPS 199 compliant. System adheres to a Moderate security rating.

RETENTION AND DISPOSAL: All records shall be retained and disposed of in accordance with Department directives and series records schedule.

SYSTEM MANAGER(S) AND ADDRESS:

System Administrator, BusinessUSA, U.S. Department of Commerce, 1401 Constitution Ave. NW., Washington, DC 20230.

NOTIFICATION PROCEDURE:

An individual requesting notification of existence of records on himself or herself should send a signed, written inquiry to the U.S. Department of Commerce, Freedom of Information and Privacy Act Office at 1401 Constitution Ave. NW., Room A300, Washington, DC 20230. The request letter should be clearly marked, “PRIVACY ACT REQUEST.” The written inquiry must be signed and notarized or submitted with certification of identity under penalty of perjury. Requesters should reasonable specify the record contents being sought.

RECORD ACCESS PROCEDURES:

An individual requesting access to records on himself/herself should send a signed, written inquiry to the U.S. Department of Commerce, Freedom of Information and Privacy Act Office at 1401 Constitution Ave. NW., Room A300, Washington, DC 20230. The request letter should be clearly marked, “PRIVACY ACT REQUEST.” The written inquiry must be signed and notarized or submitted with certification of identity under penalty of perjury. Requesters should reasonable specify the record contents being sought.

CONTESTING RECORDS PROCEDURES:

An individual requesting corrections or contesting information contained in his or her records must send a signed, written request inquiry to the U.S. Department of Commerce, Freedom of Information and Privacy Act Office, 1401 Constitution Ave. NW., Room A300, Washington, DC 20230. Requesters should reasonable identify the records, specify the information they are contesting and state the corrective action sought and the reasons for the correction with supporting justification showing how the record is incomplete, untimely, inaccurate, or irrelevant.

RECORD SOURCE CATEGORIES:

Subject individuals; individuals who interact with the DOC through social media networks or as a result of public outreach.

EXEMPTIONS CLAIMED FOR THE SYSTEM:

None.

Dated: May 8, 2014.
Brenda Dolan,
Freedom of Information and Privacy Act Officer, Department of Commerce.

[FR Doc. 2014-10961 Filed 5-12-14; 8:45 am]

BILLING CODE 3510-17-P